DEPARTMENT OF TRANSPORTATION

Federal Aviation Administration

14 CFR Part 39

[Docket No. FAA-2009-0454; Directorate Identifier 2008-NM-156-AD]

RIN 2120-AA64

Airworthiness Directives; Boeing Model 747-400, 747-400D, and 747-400F Series Airplanes

AGENCY: Federal Aviation Administration (FAA), DOT.

ACTION: Notice of proposed rulemaking (NPRM).

SUMMARY: We propose to adopt a new airworthiness directive (AD) for certain Boeing Model 747-400, 747-400D, and 747-400F series airplanes. For all airplanes, this proposed AD would require installing new pump control and time delay relays, doing related investigative and corrective actions if necessary, and changing the wiring for the center and main fuel tanks override/jettison fuel pumps; and, for certain airplanes, installing new relays and wiring for the horizontal stabilizer override/jettison fuel pumps. This proposed AD would also require a revision to the maintenance program to incorporate Airworthiness Limitation No. 28-AWL-24 and No. 28-AWL-26. For certain airplanes, this proposed AD would also require installing an automatic shutoff system for the horizontal stabilizer tank fuel pumps and installing a new integrated display system. This proposed AD results from fuel system reviews conducted by the manufacturer. We are proposing this AD to prevent uncommanded operation of certain override/jettison pumps which could cause overheat, electrical arcs, or frictional sparks, and could lead to an ignition source inside a fuel tank. This condition, in combination with flammable fuel vapors, could result in a fuel tank explosion and consequent loss of the airplane.

DATES: We must receive comments on this proposed AD by July 17, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, Attention: Data & Services Management, P.O. Box 3707, MC 2H-65, Seattle, Washington 98124-2207; telephone 206-544-5000, extension 1, fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Jon Regimbal, Aerospace Engineer, Propulsion Branch, ANM-140S, FAA, Seattle Aircraft Certification Office, 1601 Lind Avenue, SW., Renton, Washington 98057-3356; telephone (425) 917-6506; fax (425) 917-6590.

SUPPLEMENTARY INFORMATION:

Comments Invited

We invite you to send any written relevant data, views, or arguments about this proposed AD. Send your comments to an address listed under the ADDRESSES section. Include “Docket No. FAA-2009-0454; Directorate Identifier 2008-NM-156-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

The FAA has examined the underlying safety issues involved in fuel tank explosions on several large transport airplanes, including the adequacy of existing regulations, the service history of airplanes subject to those regulations, and existing maintenance practices for fuel tank systems. As a result of those findings, we issued a regulation titled “Transport Airplane Fuel Tank System Design Review, Flammability Reduction and Maintenance and Inspection Requirements” (66 FR 23086, May 7, 2001). In addition to new airworthiness standards for transport airplanes and new maintenance requirements, this rule included Special Federal Aviation Regulation No. 88 (“SFAR 88,” Amendment 21-78, and subsequent Amendments 21-82 and 21-83).

Among other actions, SFAR 88 requires certain type design (i.e., type certificate (TC) and supplemental type certificate (STC)) holders to substantiate that their fuel tank systems can prevent ignition sources in the fuel tanks. This requirement applies to type design holders for large turbine-powered transport airplanes and for subsequent modifications to those airplanes. It requires them to perform design reviews and to develop design changes and maintenance procedures if their designs do not meet the new fuel tank safety standards. As explained in the preamble to the rule, we intended to adopt airworthiness directives to mandate any changes found necessary to address unsafe conditions identified as a result of these reviews.

In evaluating these design reviews, we have established four criteria intended to define the unsafe conditions associated with fuel tank systems that require corrective actions. The percentage of operating time during which fuel tanks are exposed to flammable conditions is one of these criteria. The other three criteria address the failure types under evaluation: Single failures, single failures in combination with a latent condition(s), and in-service failure experience. For all four criteria, the evaluations included consideration of previous actions taken that may mitigate the need for further action.

We have determined that the actions identified in this AD are necessary to reduce the potential of ignition sources inside fuel tanks, which, in combination with flammable fuel vapors, could result in fuel tank explosions and consequent loss of the airplane.

Safety assessments conducted by Boeing indicate that there is a risk of an ignition source in the main and center fuel tanks for Model 747-400, 747-400D, and 747-400F series airplanes, and in the horizontal stabilizer fuel tanks of Model 747-400 series airplanes, if the override/jettison pump continues to run for an extended time after the fuel level goes below the pump inlet. The pump is normally commanded off if the fuel level goes below the pump inlet, but if a single failure in the pump control circuitry occurs, a pump can continue to run after it is commanded off. Uncommanded operation of certain override/jettison pumps could cause overheat, electrical arcs, or frictional sparks, and could lead to an ignition source inside a fuel tank. This condition, in combination with flammable fuel vapors, could result in a fuel tank explosion and consequent loss of the airplane.

Other Related Rulemaking

Installing a new integrated display system (IDS) in accordance with Boeing Service Bulletin 747-31-2376, 747-31-2377, or 747-31-2378, all dated September 5, 2006, as applicable, would provide an acceptable substitute for complying with certain paragraphs of the ADs listed below.

• Paragraph E. of AD 90-09-06, amendment 39-6581 (55 FR 15217, April 23, 1990). That AD applies to all Model 747 series airplanes and requires, among other actions, installing a system to provide visual warning signals to alert flightcrew members and ground crew personnel of certain incorrect indications.

• Paragraph (b) of AD 91-13-10 R1, amendment 39-8158 (57 FR 2446, January 22, 1992). That AD applies to certain Boeing Model 747 and 767 series airplanes and requires, among other actions, replacing the engine indicating and crew alerting system (EICAS) computers.

• Paragraph (d)(1) of AD 96-07-09, amendment 39-9558 (61 FR 14608, April 3, 1996). That AD applies to all Boeing Model 747-400, 757, and 767 series airplanes and requires, among other actions, installing an upgraded EICAS computer that provides “advisory” messages to the flightcrew to indicate an impending engine fuel filter bypass condition for each engine.

• Paragraph (a)(3)(iii) of AD 2000-02-22, amendment 39-11540 (65 FR 5222, February 3, 2000). That AD applies to certain Boeing Model 747-400 series airplanes and requires, among other actions, modifying the IDS software.

• Paragraph (a)(2)(ii) of AD 2000-12-21, amendment 39-11799 (65 FR 39079, June 23, 2000). [A correction of that AD was published in the Federal Register on July 18, 2000 (65 FR 44432).] That AD requires, among other actions, modifying the IDS software.

• Paragraph (d)(2)(iv) of AD 2003-16-16, amendment 39-13269 (68 FR 51439, August 27, 2003). That AD applies to certain Boeing Model 747-400 series airplanes and requires, among other actions, installing new IDS software in six integrated display units and three electronic flight information (EFI)/EICAS interface units.

• Paragraph (d)(1) of AD 2004-10-05, amendment 39-13635 (69 FR 28052, May 18, 2004). That AD applies to certain Boeing Model 747-400, 747-400D, 747-400F, 757-200, 757-200PF, 757-200CB, 767-200, 767-300, and 767-300F series airplanes. That AD requires, among other actions for Model 747-400, -400D, and -400F series airplanes, replacing the three EFIS/EICAS interface units (EIU), installing new software in the integrated display units (IDUs) and EIUs, replacing certain central maintenance computers (CMCs), and installing new software in the CMCs.

For airplanes with a horizontal stabilizer fuel tank and with horizontal stabilizer tank fuel pump auto-shutoff installed, installing a new IDS in accordance with Boeing Service Bulletin 747-31-2376, 747-31-2377, or 747-31-2378, all dated September 5, 2006, as applicable, would provide an acceptable method for complying with certain paragraphs of the ADs listed below, provided the certificate limitations enclosed with FAA Letter 140S-06-343, dated November 17, 2006, are incorporated into the limitations section of the applicable airplane flight manual (AFM) revision specified in the applicable AD.

• Paragraph (a) of AD 2001-12-21, amendment 12777 (66 FR 33170, June 21, 2001). That AD applies to all Boeing Model 747 series airplanes and requires, among other actions, revising the Limitations Section of the AFM to include procedures to prevent dry operation of the center wing fuel tank override/jettison pumps and, for certain airplanes, to prohibit operation of the horizontal stabilizer tank transfer pumps in-flight.

• Paragraph (a) of AD 2001-21-07, amendment 39-12478 (66 FR 54652, October 30, 2001). That AD applies to certain Boeing Model 747 series airplanes and requires, among other actions, revising the AFM to specify the amount of fuel necessary for operating the override/jettison fuel pumps, and to specify not resetting the circuit breakers for the override/jettison fuel pumps if they are tripped.

• Paragraph (c)(2) of AD 2002-19-52, amendment 39-12900 (67 FR 61253, September 30, 2002). That AD applies to all Boeing Model 737-600, -700, -700C, -800, and -900 series airplanes; Model 747 series airplanes; and Model 757 series airplanes. That AD requires, among other actions, revising the AFM to advise the flightcrew of certain operating restrictions for maintaining minimum fuel levels.

• Paragraph (a) of AD 2002-24-52, amendment 39-12993 (68 FR 14, January 2, 2003). That AD applies to all Boeing Model 747-400, -400D, and -400 F series airplanes and requires, among other actions, revising the AFM to require the flightcrew to maintain certain minimum fuel levels in the center wing fuel tank, and to prohibit the use of the horizontal stabilizer fuel tank.

Relevant Service Information

We have reviewed Boeing Alert Service Bulletin 747-28A2280, dated August 7, 2008. This service bulletin describes procedures for installing new pump control and time delay relays, doing related investigative and corrective actions if necessary, and changing the wiring for the center and main fuel tanks override/jettison fuel pumps. The related investigative and corrective actions include doing a general visual inspection for corrosion of the ground stud assembly during the installation of the P914 relay panel and cleaning or replacing the ground stud assembly if necessary. Boeing Alert Service Bulletin 747-28A2280 specifies that the installation of a new integrated display system (IDS), as described in the following service bulletins, must be done before or at the same time as the actions in the alert service bulletin:

• Boeing Service Bulletin 747-31-2376, dated September 5, 2006, for Model 747-400, and -400F series airplanes that have General Electric engines, except for airplanes having variable numbers (V/Ns) RL429, RL430, RL473, RL511, and RL521, which received new software in production.

• Boeing Service Bulletin 747-31-2377, dated September 5, 2006, for Model 747-400, and -400F series airplanes that have Pratt & Whitney engines, except for airplanes having V/Ns RL456, RL492, and RL502, which received new software in production.

• Boeing Service Bulletin 747-31-2378, dated September 5, 2006, for Model 747-400, -400D, and -400F series airplanes that have Rolls Royce engines.

We have also reviewed Boeing Alert Service Bulletin 747-28A2281, dated December 13, 2007, for Model 747-400 series airplanes. This service bulletin describes procedures for installing new relays and wiring in the horizontal stabilizer override/jettison fuel pumps. Boeing Alert Service Bulletin 747-28A2281 specifies that the installation of a new automatic shutoff system for the horizontal stabilizer tank (HST) fuel pumps, as described in the following service bulletin, must be done before or at the same time as the actions in the alert service bulletin: Boeing Service Bulletin 747-28A2262, Revision 1, dated May 8, 2008, for Model 747-400 series airplanes, except for airplanes having V/Ns RM403, RM441, RM442, RM443, and RM445.

We have also reviewed Section 9, “Airworthiness Limitations (AWLs) and Certification Maintenance Requirements (CMRs),” Boeing 747-400 Maintenance Planning (MPD) Data Document D621U400-9, Revision April 2008 (hereafter referred to as “Document D621U400-9”). Sub-section D of Document D621U400-9 describes AWLs for fuel tank systems. Sub-section D of Document D621U400-9 includes the following fuel system AWLs:

• AWL No. 28-AWL-24, which is a repetitive functional test to verify continued functionality of the automatic shutoff system for the fuel boost pump of the HST. This AWL applies to Model 747-400 airplanes, line numbers (L/Ns) 1343 and subsequent, and those that have been modified in accordance with Boeing Service Bulletin 747-28A2262.

• AWL No. 28-AWL-26, which is a repetitive operational test to verify the continued functionality of the uncommanded on system for the override/jettison pump of the main 2 and main 3 fuel tanks. This AWL applies to Model 747-400, -400D, and -400F airplanes, L/Ns 1380 and subsequent, and those that have been modified in accordance with Boeing Alert Service Bulletin 747-28A2280.

FAA's Determination and Requirements of This Proposed AD

We are proposing this AD because we evaluated all relevant information and determined the unsafe condition described previously is likely to exist or develop in other products of the same type design. This proposed AD would require, for all airplanes installing new pump control and time delay relays, doing related investigative and corrective actions if necessary, and changing the wiring for the center and main fuel tanks override/jettison fuel pumps; and, for certain airplanes, installing new relays and wiring for the horizontal stabilizer override/jettison fuel pumps. This proposed AD would also require a revision to the maintenance program to incorporate Airworthiness Limitation No. 28-AWL-24 and No. 28-AWL-26. For certain airplanes, this proposed AD would also require installing an automatic shutoff system for the horizontal stabilizer tank fuel pumps and installing a new integrated display system.

Costs of Compliance

We estimate that this proposed AD would affect 102 airplanes of U.S. registry. The following table provides the estimated costs for U.S. operators to comply with this proposed AD. The average labor rate is $80 per work hour.

Estimated Costs
Action | Work hours | Parts | Cost per product | Number of U.S.-registered airplanes | Fleet cost
Installing relays/changing wiring for center and main fuel tanks | 375 to 394 | $65,015 to $65,451 | $95,015 to $96,971 | 102 | $9,691,530 to $9,891,042.
Installing a new IDS and revising the AFM when done (prior/concurrent action) | 2 to 3 | $0 | Up to $240 | Up to 102 | Up to $24,480.
Installing relays and wiring for horizontal stabilizer tank (HST) | 73 to 79 | $0 | $5,840 to $6,320 | 74 | $432,160 to $467,680.
Installing a new automatic shutoff for the HST | 44 | $4,112 | $7,632 | 74 | $564,768.
Revising the maintenance program | 1 | $0 | $80 | 102 | $8,160.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Boeing: Docket No. FAA-2009-0454; Directorate Identifier 2008-NM-156-AD.

Comments Due Date

(a) We must receive comments by July 17, 2009.

Affected ADs

(b) None.

Applicability

(c) This AD applies to Boeing Model 747-400, 747-400D, and 747-400F series airplanes, certificated in any category; as identified in Boeing Alert Service Bulletins 747-28A2280, dated August 7, 2008, and 747-28A2281, dated December 13, 2007.

Note 1: This AD requires revisions to certain operator maintenance documents to include a new inspection. Compliance with this inspection is required by 14 CFR 91.403(c). For airplanes that have been previously modified, altered, or repaired in the areas addressed by this inspection, the operator may not be able to accomplish the inspections described in the revisions. In this situation, to comply with 14 CFR 91.403(c), the operator must request approval for an alternative method of compliance (AMOC) according to paragraph (m) of this AD. The request should include a description of changes to the required inspection that will ensure the continued operational safety of the airplane.

Subject

(d) Air Transport Association (ATA) of America Code 28: Fuel.

Unsafe Condition

(e) This AD results from fuel system reviews conducted by the manufacturer. We are issuing this AD to prevent uncommanded operation of certain override/jettison pumps which could cause overheat, electrical arcs, or frictional sparks, and could lead to an ignition source inside a fuel tank. This condition, in combination with flammable fuel vapors, could result in a fuel tank explosion and consequent loss of the airplane.

Compliance

(f) Comply with this AD within the compliance times specified, unless already done.

Installations and Wiring Changes

(g) Within 60 months after the effective date of this AD, do the actions in paragraphs (g)(1) and (g)(2) of this AD, as applicable.

(1) For Model 747-400, -400D, and -400F series airplanes: Install new pump control and time delay relays and do related investigative and all applicable corrective actions, and change the wiring for the center and main fuel tanks override/jettison fuel pumps, in accordance with the Accomplishment Instructions of Boeing Alert Service Bulletin 747-28A2280, dated August 7, 2008. Do all related investigative and applicable corrective actions before further flight.

(2) For Model 747-400 series airplanes: Install new relays and wiring for the horizontal stabilizer override/jettison fuel pumps in accordance with the Accomplishment Instructions of Boeing Alert Service Bulletin 747-28A2281, dated December 13, 2007.

Prior/Concurrent Requirements

(h) Prior to or concurrently with the actions required by paragraph (g) of this AD, do the applicable actions in paragraphs (h)(1) and (h)(2) of this AD.

(1) For Model 747-400, -400D, and -400F series airplanes identified in paragraphs (h)(1)(i), (h)(1)(ii), and (h)(1)(iii) of this AD: Install a new integrated display system (IDS) in accordance with the Accomplishment Instructions of the applicable service bulletin listed in paragraph (h)(1)(i), (h)(1)(ii), or (h)(1)(iii) of this AD.

(i) For Model 747-400, -400D, and -400F series airplanes that have General Electric engines except airplanes having variable numbers (V/Ns) RL429, RL430, RL473, RL511, and RL521: Boeing Service Bulletin 747-31-2376, dated September 5, 2006.

(ii) For Model 747-400 and -400F series airplanes that have Pratt & Whitney engines except airplanes having V/Ns RL456, RL492, and RL502: Boeing Service Bulletin 747-31-2377, dated September 5, 2006.

(iii) For Model 747-400 and -400F series airplanes that have Rolls Royce engines: Boeing Service Bulletin 747-31-2378, dated September 5, 2006.

(2) For Model 747-400 series airplanes except V/Ns RM403, RM441 through RM443 inclusive, and RM445: Install a new automatic shutoff system for the horizontal stabilizer tank (HST) fuel pumps in accordance with the Accomplishment Instructions of Boeing Service Bulletin 747-28A2262, Revision 1, dated May 8, 2008. Installations accomplished before the effective date of this AD in accordance with Boeing Service Bulletin 747-28A2262, dated March 15, 2007, are acceptable for compliance with the installation required by this paragraph.

Maintenance Program Revision

(i) Concurrently with accomplishing the actions required by paragraph (g) of this AD, revise the maintenance program by incorporating Airworthiness Limitation (AWL) No. 28-AWL-24 and No. 28-AWL-26 of Section 9, “Airworthiness Limitations (AWLs) and Certification Maintenance Requirements (CMRs),” Boeing 747-400 Maintenance Planning (MPD) Data Document D621U400-9, Revision April 2008. The inspection interval for AWL No. 28-AWL-24 and AWL No. 28-AWL-26 starts on the date the modification is incorporated.

No Alternative Inspections or Inspection Intervals

(j) After accomplishing the action specified in paragraph (i) of this AD, no alternative actions or intervals may be used unless the inspections or inspection intervals are approved as an AMOC in accordance with the procedures specified in paragraph (m) of this AD.

Acceptable Action for Certain ADs

(k) For Model 747-400, -400D, and -400F series airplanes: Installing a new IDS in accordance with paragraph (h)(1) of this AD is an acceptable method of compliance for the action in the applicable AD paragraph listed in Table 1 of this AD.

Table 1—Actions for Which Paragraph (h)(1) of This AD Is an Acceptable Method of Compliance (No Certificate limitations)
The action in— | Of—
(1) Paragraph E | AD 90-09-06, amendment 39-6581.
(2) Paragraph (b) | AD 91-13-10 R1, amendment 39-8158.
(3) Paragraph (d)(1) | AD 96-07-09, amendment 39-9558.
(4) Paragraph (a)(3)(iii) | AD 2000-02-22, amendment 39-11540.
(5) Paragraph (a)(2)(ii) | AD 2000-12-21, amendment 39-11799.
(6) Paragraph (d)(2)(iv) | AD 2003-16-16, amendment 39-13269.
(7) Paragraph (d)(1) | AD 2004-10-05, amendment 39-13635.

(l) For Model 747-400, -400D, and -400F series airplanes with a horizontal stabilizer fuel tank and with horizontal stabilizer tank fuel pump auto-shutoff installed: Installing a new IDS in accordance with paragraph (h)(1) of this AD is an acceptable method of compliance for the action in the applicable AD paragraph listed in Table 2 of this AD, provided the certificate limitations included in the following statement are incorporated into the Limitations Section of the applicable airplane flight manual (AFM) in place of the certificate limitation required by the AFM revision specified in the applicable AD listed in Table 2 of this AD. This may be done by inserting a copy of this AD in the AFM.

“Certificate Limitations

Center Wing Tank

The center wing tank (CWT) fuel quantity indication system must be operative to dispatch with CWT mission fuel.

The CWT must contain a minimum of 17,000 pounds (7,700 kilograms) prior to engine start, if the CWT override/jettison pumps are to be selected ON during takeoff.

If the FUEL LOW CTR L or R message is displayed, both CWT override/jettison pump(s) must be selected OFF.

If the FUEL PRESS CTR L or R message is displayed, the corresponding CWT override/jettison pump must be selected OFF.

Horizontal Stabilizer Tank

The following additional limitations must be followed if the horizontal stabilizer tank is fueled and used:

The horizontal stabilizer tank (HST) fuel quantity indication system must be operative to dispatch with HST mission fuel.

If either the FUEL PMP STB L or R message is displayed while on the ground, both HST pumps must be selected OFF.

If either the FUEL PRES STB L or R message is displayed, both HST pumps must be selected OFF.

Defueling

Prior to defueling any fuel tanks, perform a lamp test of the respective Fuel Pump Low Pressure indication lights. When defueling, the Fuel Pump Low Pressure indication lights must be monitored and the fuel pumps positioned to OFF at the first indication of fuel pump low pressure. When defueling with passengers on board, fuel pump switches must be selected OFF at or above approximately 7,000 pounds (3,200 kilograms) for the center wing tank, 3,000 pounds (1,400 kilograms) for main tanks, and 2,100 pounds (1,000 kilograms) for the horizontal stabilizer tank. (These requirements apply for defueling or transferring between tanks.)

Warnings and Notes Applicable to All Fuel Operations

Warning

Do not reset a tripped fuel pump circuit breaker.

Warning

Do not cycle CWT and HST pump switches from ON to OFF to ON with any continuous low pressure indication present.

Note

There is no change to the maximum zero fuel gross weight found in the airplane flight manual.

Note

In a low fuel situation, both CWT override/jettison pumps may be selected ON and all CWT fuel may be used.

Note

In a low fuel situation, both HST transfer pumps may be selected ON and all HST fuel may be used.

Note

The CWT and the HST may be emptied normally during an emergency.

Note

The limitations contained in these certificate limitations supersede any conflicting basic airplane flight manual limitations.”

Note 2: When a statement identical to that in paragraph (l) of this AD has been included in the general revisions of the AFM, the general revisions may be inserted into the AFM, and the copy of this AD may be removed from the AFM.

Note 3: The certificate limitations in paragraph (l) of this AD are also included as an enclosure to FAA Letter 140S-06-343, dated November 17, 2006.

Table 2—Actions for Which Paragraph (h)(1) of This AD Is an Acceptable Method of Compliance (With Certificate Limitations)
The action in— | Of—
(1) Paragraph (a) | AD 2001-12-21, amendment 39-12277.
(2) Paragraph (a) | AD 2001-21-07, amendment 39-12478.
(3) Paragraph (c)(2) | AD 2002-19-52, amendment 39-12900.
(4) Paragraph (a) | AD 2002-24-52, amendment 39-12993.

Alternative Methods of Compliance (AMOCs)

(m)(1) The Manager, Seattle Aircraft Certification Office (ACO), FAA, has the authority to approve AMOCs for this AD, if requested using the procedures found in 14 CFR 39.19. Send information to ATTN: Jon Regimbal, Aerospace Engineer, Propulsion Branch, ANM-140S, FAA, Seattle Aircraft Certification Office, 1601 Lind Avenue, SW., Renton, Washington 98057-3356; telephone (425) 917-6506; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Issued in Renton, Washington, on May 11, 2009.
Ali Bahrami,
Manager, Transport Airplane Directorate, Aircraft Certification Service.

[FR Doc. E9-12742 Filed 6-1-09; 8:45 am]

BILLING CODE 4910-13-P